DEPARTMENT OF COMMERCE

Foreign-Trade Zones Board

[T-4-2007]

Foreign-Trade Zone 38 - Spartanburg County, SC, Application for Temporary/Interim Manufacturing Authority, ZF Lemförder Corporation, (Automotive Suspension Systems), Notice of Approval

On September 26, 2007, an application was filed by the Executive Secretary of the Foreign-Trade Zones (FTZ) Board submitted by the South Carolina State Ports Authority, grantee of FTZ 38, requesting temporary/interim manufacturing (T/IM) authority on behalf of ZF Lemförder Corporation, to assemble automotive suspension systems under FTZ procedures within FTZ 38 Site-3, Duncan, South Carolina.

The application has been processed in accordance with T/IM procedures, as authorized by FTZ Board Orders 1347 (69 FR 52857, 8-30-2004) and 1480 (71 FR 55422, 9-22-2006), including notice in the Federal Register inviting public comment (72 FR 56334, 10-3-2007). The FTZ staff examiner reviewed the application and determined that it meets the criteria for approval under T/IM procedures. The foreign-origin components approved for this activity are: stoppers/lids/caps (HTSUS 3923.50), reinforced tubes/pipes/hoses (4009.42), articles of rubber (4016.99), fasteners (7318.15, .16, .22, .24; 7616.10), helical and leaf springs (7320.20), cables and wires (7326.90), fittings (8302.30), check valves (8481.30), brake system parts (8708.30), suspension systems and related parts (8708.80), dampeners (8708.99), height sensors (9031.80), wheel hubs (8708.99), drive shafts (8708.99), universal joints (8708.99), and ball bearings (8482.10).

Pursuant to the authority delegated to the FTZ Board Executive Secretary in the above-referenced Board Orders, the application is approved, effective this date, until December 10, 2009, subject to the FTZ Act and the Board's regulations, including Section 400.28.

Dated: December 10, 2007.
Andrew McGilvray,
Executive Secretary.

[FR Doc. E7-24499 Filed 12-17-07; 8:45 am]

BILLING CODE 3510-DS-S